DEPARTMENT OF COMMERCE

National Oceanic and Atmospheric Administration

RIN 0648-XB033

Marine Mammals; File No. 16991

AGENCY: National Marine Fisheries Service (NMFS), National Oceanic and Atmospheric Administration (NOAA), Commerce.

ACTION: Notice; receipt of application.

SUMMARY: Notice is hereby given that James T. Harvey, Ph.D., Moss Landing Marine Laboratories, 8272 Moss Landing Road, Moss Landing, CA 95039, has applied in due form for a permit to conduct scientific research on harbor seals (Phoca vitulina).

DATES: Written, telefaxed, or email comments must be received on or before March 29, 2012.

ADDRESSES: The application and related documents are available for review by selecting “Records Open for Public Comment” from the Features box on the Applications and Permits for Protected Species (APPS) home page, https://apps.nmfs.noaa.gov, and then selecting File No. 16991 from the list of available applications.

These documents are also available upon written request or by appointment in the following offices: (See SUPPLEMENTARY INFORMATION).

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Joselyd Garcia-Reyes or Amy Sloan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to examine the biology and ecology of harbor seals and monitor health and condition of coastal populations of harbor seals in California, Oregon, Washington, and Alaska over a 5-year period. The types of research that would be conducted under this permit would include but are not limited to: (1) Abundance and distribution surveys; (2) movements, survival, and causes of mortality; (3) effects of human disturbance; (4) fisheries interactions and diet; (5) toxicant levels and the effects of these toxicants on health; and (6) reproductive strategies and success. Researchers would capture a maximum of 1,770 harbor seals annually near haul-out sites in California, Oregon, Washington, and Alaska using tangle, salmon, and set nets. Animals captured would have some or all of the following procedures done: mass, sex, morphometrics, blubber depth and biopsy, lavage/enema, flipper and PIT tagged, blood, swabs, skin and hair samples, and attachment of RFID (radio-frequency identification), acoustic, radio, GPS (Global Positioning System), or satellite tags, and video or still cameras. An additional 1,065 individuals may be incidentally captured and released without sampling, and 15,190 individuals may be taken annually via level B harassment by incidental disturbance during capture or scat collection and exposure to playbacks of vocalizations. Annually, up to 55 California sea lions (Zalophus californianus) and 35 northern elephant seals (Mirounga angustirostris) could be disturbed during activities conducted under this permit. The applicant requests up to ten incidental mortalities of harbor seals per year with a five-year maximum of 25.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249; and

Southwest Region, NMFS, 501 West Ocean Blvd., Suite 4200, Long Beach, CA 90802-4213; phone (562) 980-4001; fax (562) 980-4018.

Dated: February 22, 2012.
P. Michael Payne,
Chief, Permits and Conservation Division, Office of Protected Resources, National Marine Fisheries Service.

[FR Doc. 2012-4703 Filed 2-27-12; 8:45 am]

BILLING CODE 3510-22-P